DEPARTMENT OF COMMERCE

U.S. Census Bureau

Proposed Information Collection; Comment Request; 2012 Economic Census General Classification Report

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 1, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Scott P. Handmaker, Chief, Economic Classifications Operations Branch, U.S. Census Bureau, 8K149, Washington, DC 20233, Telephone: 301-763-7107 or e-mail at Scott.P.Handmaker@census.gov.

SUPPLEMENTARY INFORMATION:

I. Abstract

The Economic Census General Classification Report (NC-99023) collects information on new businesses for the purpose of assigning a proper North American Industry Classification System (NAICS) code. New businesses are assigned NAICS codes by the Social Security Administration (SSA); however, many of these businesses cannot be assigned detailed NAICS codes, because insufficient data are provided by respondents on the Internal Revenue Service (IRS) Form SS-4. This report, conducted separately in fiscal years 2012 and 2013, will mail approximately 100,000 businesses per year that are unclassified or have been partially classified. The NC-99023 form collects information on primary business activity in order to determine a complete and reliable NAICS code. Proper industry classification ensures that establishments will be tabulated in the correct detailed industry for the 2012 Economic Census and other survey programs, ensuring high quality economic estimates. Failure to collect these data will have an adverse effect on the quality and usefulness of economic statistics provided by the Census Bureau. Additionally, by ensuring proper industry classification, this survey reduces processing costs and reporting burden for the 2012 Economic Census data collection.

There are few changes since the last request was submitted for an OMB clearance request in 2007. Changes will be made to the wording and organization of existing economic activity descriptions. Additionally, respondents will have the option to respond electronically via the Internet.

II. Method of Collection

Information is collected by Internet, mail, and fax.

III. Data

OMB Control Number: None.

Form Number: NC-99023.

Type of Review: Regular submission.

Affected Public: Businesses or Other for Profit Institutions, Small Businesses or Organizations, Non-profit Institutions, State or Local Governments.

Estimated Number of Respondents: 100,000.

Estimated Time per Response: 10 minutes.

Estimated Total Annual Burden Hours: 16,667.

Estimated Total Annual Cost: $483,510.

Respondent's Obligation: Mandatory.

Legal Authority: Title 13 U.S.C. Sections, 131, 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 30, 2010.
Glenna Mickelson,
Management Analyst, Office of the Chief Information Officer.

[FR Doc. 2010-30328 Filed 12-2-10; 8:45 am]

BILLING CODE 3510-07-P